FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

CCP Enterprise, LC (NVO & OFF), 3950 S 700 E, Suite 101, Salt Lake City, UT 84107, Officers: Rachel A. Kingston, Manager (QI), Elijah E. Kingston, Manager, Application Type: New NVO & OFF License.

DMS America, L.L.C. (NVO & OFF), 7025 NW 52nd Street, Miami, FL 33166, Officers: Eduardo R. de Almeida, Executive Manager (QI), Fernando Arruda, Chief Executive Manager, Application Type: QI Change.

D. Martin LLC (OFF), 2915 Quail Run Drive, Humble, TX 77396, Officer: Dorsille Martin, Managing Member (QI), Application Type: New OFF License.

Global Customs Services, LLC (NVO & OFF), 21 Fadem Road, Unit 14, Springfield, NJ 07081, Officers: Morten Olesen, President (QI), Vibeke Olesen, Secretary, Application Type: New NVO & OFF License.

Harold Kass—World Wide Moving, Inc dba HK Worldwide Moving, Inc (OFF), 3912 W. McLean Avenue, Chicago, IL 60647, Officer: Sylvie Tovy, President (QI), Application Type: New OFF License.

JR Express Solutions Corp (NVO & OFF), 5085 NW 7th Street, Unit 1202, Miami, FL 33126, Officer: Jorge L. Roa, President (QI), Application Type: NVO & OFF License.

Kesco Logistics, Inc. (NVO & OFF), 20 E. Sunrise Highway, Suite 308, Valley Stream, NY 11581, Officers: Geoffrey Tice, President (QI), Pul aka Cyndia Chan, Secretary, Application Type: Add OFF Service.

KTL USA, LLC (NVO), 17 Hilliard Avenue, Edgewater, NJ 07020, Officers: Tufan Duygun, Manager (QI), Ozisik Serhat, Member, Application Type: Add Trade Name Daimon Logistics USA.

Logistics International Parcel Shipping Transport LLC (NVO), 391 Kent Avenue, Elk Grove, IL 60007, Officers: Marilou G. Pedres, Operation Manager (QI), Jroel G. Pedres, President, Application Type: Add Trade Name Lips Transport LLC.

Matthew's Auto Transportation LLC (OFF), 16 Guenever Drive, New Castle, DE 19720, Officer: Carlos E. Valdiviezo, President (QI), Application Type: New OFF License.

Miragrown Logistics Corporation (NVO), 2370 West Carson Street, Suite 130, Torrance, CA 90501, Officers: Marianne Thai, Secretary (QI), Zhimin Wei, President, Application Type: New NVO License.

NFI Global, L.L.C. (NVO & OFF), 1515 Burnt Mill Road, Cherry Hill, NJ 08003, Officers: Carter Buck, Director (QI), Sidney R. Brown, President, Application Type: QI Change.

Seafair USA, LLC (NVO & OFF), 10813 NW 30th Street, Suite 102, Miami, FL 33172, Officers: Eduardo Mazzitelli, Vice President (QI), Thomas Schoett, President, Application Type: QI Change.

Stratford Group Inc. (OFF), 7912 Los Robles Court,Jacksonville, FL 32256, Officers: Russell F. Palmer, President (QI), Rosalind J. Palmer, Vice President, Application Type: New OFF License.

Supply Chain Shipping LLC (OFF), 4607 44th Street SE., Grand Rapids, MI 49512, Officers: Peter G. Gonzales, Vice President (QI), James Ward, COO, Application Type: QI Change.

Target Shipping Inc. (NVO), 123 N Union Avenue, Suite 101, Cranford, NJ 07016, Officers: Tal Weiss, President (QI), Felicia Nash, Secretary, Application Type: Add OFF Service.

Woodmere CHB, Inc. dba MW Transport (OFF), 10620 S La Cienega Blvd., Unit D, Inglewood, CA 90304, Officers: Michael J. Wasserberg, President (QI), Ilanit Wasserberg, Vice President, Application Type: New OFF License.

Zhejiang Sunmarr International Transportation Co., Ltd. (NVO), 14F, Lvdu World Trade Plaza, No. 819 Shixin Middle Rd., Xiaoshan District, Hangzhou, China, Officers: Ya Liu, Deputy General Manager (QI), Jian P. Feng, General Manager, Application Type: New NVO License.

By the Commission.
Dated: August 6, 2013.
Karen V. Gregory,
Secretary.

[FR Doc. 2013-19418 Filed 8-9-13; 8:45 am]

BILLING CODE 6730-01-P